DEPARTMENT OF COMMERCE

Patent and Trademark Office

Agency Information Collection Activities; Submission to the Office of Management and Budget (OMB) for Review and Approval; Comment Request; Patent Processing

AGENCY: United States Patent and Trademark Office, Department of Commerce.

ACTION: Notice of information collection; request for comment.

SUMMARY: The United States Patent and Trademark Office (USPTO), in accordance with the Paperwork Reduction Act of 1995, invites comments on the extension and revision of an existing information collection: 0651-0031 (Patent Processing). The purpose of this notice is to allow 60 days for public comment preceding submission of the information collection to OMB.

DATES: To ensure consideration, comments regarding this information collection must be received on or before November 30, 2020.

ADDRESSES: Interested persons are invited to submit written comments by any of the following methods. Do not submit Confidential Business Information or otherwise sensitive or protected information.

• Email: InformationCollection@uspto.gov. Include “0651-0031 comment” in the subject line of the message.

• Federal Rulemaking Portal: http://www.regulations.gov.

• Mail: Kimberly Hardy, Office of the Chief Administrative Officer, United States Patent and Trademark Office, P.O. Box 1450, Alexandria, VA 22313-1450.

FOR FURTHER INFORMATION CONTACT: Requests for additional information should be directed to Raul Tamayo, Senior Legal Advisor, Office of Patent Legal Administration, United States Patent and Trademark Office, P.O. Box 1450, Alexandria, VA 22313-1450; by telephone at 571-272-7728; or by email to raul.tamayo@uspto.gov with “0651-0031 comment” in the subject line. Additional information about this information collection is also available at http://www.reginfo.gov under “Information Collection Review.”

SUPPLEMENTARY INFORMATION:

I. Abstract

The United States Patent and Trademark Office (USPTO) is required by 35 U.S.C. 131 to examine an application for patent and, when appropriate, issue a patent. The USPTO is also required to publish patent applications, with certain exceptions, promptly after the expiration of a period of 18 months from the earliest filing date for which a benefit is sought under Title 35, United States Code (“eighteen-month publication”). This information collection covers certain situations that may arise which require that additional information be supplied in order for the USPTO to further process the patent or application.

The information in this collection is used by the USPTO to continue the processing of the patent or application to ensure that applicants are complying with the patent regulations and to aid in the prosecution of the application. In addition, this renewal proposes to remove three items related to patent appeals and associate all submissions of those items to an existing information collection (0651-0063, Patent Trial and Appeal Board Appeals). These three items are: Notice of Appeal, Amendment to Cancel Claims During an Appeal, and Request for Oral Hearing.

II. Method of Collection

Items in this information collection may be submitted via online electronic submissions. In limited circumstances, applicants may be permitted to submit the information in paper form by mail, fax, or hand delivery.

III. Data

OMB Number: 0651-0031.

Form Number(s): (AIA = American Invents; SB = Specimen Book; PTOL = Patent and Trademark Office Legal)

• PTO/SB/08a/08b (Information Disclosure Statements)

• PTO/SB/21 (Transmittal Form)

• PTO/SB/22 and PTO/AIA/22 (Petitions for Extension of Time under 37 CFR 1.136(a))

• PTO/SB/24 and PTO/AIA/24 (Express Abandonment under 37 CFR 1.138)

• PTO/SB/25/26/43/63 (Statutory Disclaimers)

• PTO/SB/27 (Request for Expedited Examination of a Design Application)

• PTO/SB/61/64 (Petition for Revival of an Application for Patent Abandoned Unintentionally)

• PTO/SB/64a (Petition for Revival of an Application for Patent Abandoned for Failure to Notify the Office of a Foreign or International Filing)

• PTO/SB/67/68 (Requests to Access, Inspect, and Copy)

• PTO/SB/91 (Deposit Account Order Form)

• PTO/SB/92 (Certificates of Mailing or Transmission)

• PTO/SB/96 and PTO/AIA/96 (Statement under 37 CFR 3.73(b))

• PTO/SB/35 (Non-Publication Request)

• PTO/SB/36 (Rescission of Previous Non-Publication Request (35 U.S.C. 122(b)(2)(B)(ii) and, if applicable, Notice of Foreign Filing (35 U.S.C. 122(b)(2)(B)(iii))

• PTO-2053-A/B, PTO-2054-A/B, and PTO-2055-A/B (Copy of the Applicant or Patentee's Record of the Application (including copies of the correspondence, list of the correspondence, and statements verifying whether the record is complete or not))

• PTO/SB/30 (Request for Continued Examination (RCE) Transmittal)

• PTO/SB/37 (Request for Suspension of Action or Deferral of Examination under 37 CFR 1.103(b), (c), or (d))

• PTOL/413A (Applicant-Initiated Interview Request Form)

• PTO/SB/17i (Processing Fee under 37 CFR 1.17(i) Transmittal)

• PTO/SB/38 (Request to Retrieve Electronic Priority Application(s) under 37 CFR 1.55(d))

• PTO/SB/39 (Authorization or Rescission of Authorization to Permit Access to Application-as-filed by Participating Offices under 37 CFR 1.14(h))

• PTO/SB/24B and PTO/AIA/24B (Petition for Express Abandonment to Obtain a Refund)

• PTO/SB/33 and PTO/AIA/33 (Pre-Appeal Brief Request for Review)

• PTOL-413C (Request for First-Action Interview (Pilot Program))

• PTO/SB/130 (Petition to Make Special Based on Age for Advancement of Examination under 37 CFR 1.102(c)(1))

Type of Review: Revision of a currently approved information collection.

Affected Public: Private sector; individuals or households.

Estimated Number of Respondents: 3,669,397 respondents per year.

Estimated Number of Responses: 3,669,397 responses per year.

Estimated Time per Response: The USPTO estimates that it will take respondents between 2 minutes (.03 hours) and 8 hours to submit an item in this information collection depending on the instrument used, including the time to gather the necessary information, prepare the appropriate form or petition, and submit the completed request to the USPTO.

Estimated Total Annual Respondent Burden Hours: 3,187,341 hours.

Estimated Total Annual Respondent (Hourly) Cost Burden: $842,416,575.

Table 1—Total Hourly Burden For Private Sector Respondents
Item No. | Item | Estimated annual respondents | Estimated annual responses (year) | Estimated time for response (hours) | Estimated annual burden (hour/year) | Rate ¹ ($/hour) | Estimated annual burden
|  |  | (a) | (b) | (a) × (b) = c | (d) | (c) × (d) = e
1 | Information Disclosure Statements that require the fee set forth in 37 CFR 1.17(p) | 624,824 | 624,824 | 2 | 1,249,648 | $400 | $499,859,200
2 | Transmittal Form | 663,023 | 663,023 | 2 | 1,326,046 | 145 | 192,276,670
3 | Petition for Extension of Time under 37 CFR 1.136(a) | 252,184 | 252,184 | .3 (18 minutes) | 75,655 | 145 | 10,969,975
4 | Express Abandonment under 37 CFR 1.138 | 1,838 | 1,838 | .25 (15 minutes) | 460 | 145 | 66,700
5 | Statutory Disclaimers (including terminal disclaimers) | 57,891 | 57,891 | .25 (15 minutes) | 14,473 | 400 | 5,789,200
6 | Request for Expedited Examination of a Design Application | 1,034 | 1,034 | .25 (15 minutes) | 259 | 400 | 103,600
7 | Petition for Revival of an Application for Patent Abandoned Unintentionally | 7,666 | 7,666 | 1 | 7,666 | 400 | 3,066,400
8 | Petition for Revival of an Application for Patent Abandoned for Failure to Notify the Office of a Foreign or International Filing | 140 | 140 | 1 | 140 | 400 | 56,000
9 | Requests to Access, Inspect and Copy | 824,500 | 824,500 | .25 (15 minutes) | 206,125 | 145 | 29,888,125
10 | Deposit Account Order Form | 64,460 | 64,460 | .25 (15 minutes) | 16,115 | 145 | 2,336,675
11 | Certificates of Mailing or Transmission | 582,000 | 582,000 | .03 (2 minutes) | 17,460 | 145 | 2,531,700
12 | Statement Under 37 CFR 3.73(c) | 172,469 | 172,469 | .25 (15 minutes) | 43,117 | 400 | 17,246,900
13 | Non-publication Request | 21,340 | 21,340 | .25 (15 minutes) | 5,335 | 400 | 2,134,000
14 | Rescission of Previous Non-publication Request (35 U.S.C. § 122(b)(2)(B)(ii) and, if applicable, Notice of Foreign Filing (35 U.S.C. § 122(b)(2)(B)(iii) | 2,134 | 2,134 | .25 (15 minutes) | 534 | 400 | 213,600
15 | Electronic Filing System (EFS) Copy of Application for Publication | 1 | 1 | 2.5 | 3 | 145 | 435
16 | Copy of File Content Showing Redactions | 1 | 1 | 4 | 4 | 400 | 1,600
17 | Copy of the Applicant or Patentee's Record of the Application (including copies of the correspondence, list of the correspondence, and statements verifying whether the record is complete or not) | 6 | 6 | 2 | 12 | 145 | 1,740
18 | Request for Continued Examination (RCE) Transmittal | 154,766 | 154,766 | .3 (18 minutes) | 46,430 | 400 | 18,572,000
19 | Request for Suspension of Action or Deferral of Examination Under 37 CFR 1.103(b), (c), or (d) | 832 | 832 | .2 (12 minutes) | 166 | 400 | 66,400
20 | Request for Voluntary Publication or Republication (includes publication fee for republication) | 134 | 134 | .2 (12 minutes) | 27 | 145 | 3,915
21 | Applicant Initiated Interview Request Form | 30,557 | 30,557 | .4 (24 minutes) | 12,223 | 400 | 4,889,200
22 | Processing Fee Under 37 CFR 1.17(i) Transmittal | 119 | 119 | .08 (5 minutes) | 10 | 400 | 4,000
23 | Request to Retrieve Electronic Priority Application (s) Under 37 CFR 1.55(h) | 5,858 | 5,858 | .25 (15 minutes) | 1,465 | 400 | 585,600
24 | Authorization or Rescission of Authorization to Permit Access to Application-as-filed by Participating Offices Under 37 CFR 1.14(h) | 7,747 | 7,747 | .25 (15 minutes) | 1,937 | 400 | 774,800
25 | Petition for Express Abandonment to Obtain a Refund | 1,827 | 1,827 | .2 (12 minutes) | 365 | 400 | 146,000
26 | Pre-Appeal Brief Request for Review | 7,760 | 7,760 | 5 | 38,800 | 400 | 15,520,000
27 | Request for Corrected Filing Receipt | 42,089 | 42,089 | .08 (5 minutes) | 3,367 | 145 | 488,215
28 | Request for First Action Interview (Pilot Program) (Electronic only) | 2,026 | 2,026 | 2.5 | 5,065 | 400 | 2,026,000
29 | Petition to Make Special Based on Age for Advancement of Examination under 37 CFR 1.102(c)(1) (EFS-Web only) | 1,471 | 1,471 | 2 | 2,942 | 400 | 1,176,800
30 | Filing a submission after final rejection (see 37 CFR 1.129(a)) | 93 | 93 | 8 | 744 | 400 | 297,600
31 | Correction of inventorship after first office action on the merits | 2,910 | 2,910 | .75 (45 minutes) | 2,183 | 400 | 873,200
32 | Request for correction in a patent application relating to inventorship or an inventor name, or order of names, other than in a reissue application (37 CFR 1.48) | 14,216 | 14,216 | .75 (45 minutes) | 10,662 | 400 | 4,264,800
33 | Request to correct or update the name of the applicant under 37 CFR 1.46(c)(1), or change the applicant under 37 CFR 1.46(c)(2) | 11,398 | 11,398 | .2 (12 minutes) | 2,280 | 400 | 912,000
Total |  | 3,559,314 | 3,559,314 |  | 3,091,718 |  | 817,143,050
¹ 2019 Report of the Economic Survey, published by the Committee on Economics of Legal Practice of the American Intellectual Property Law Association (AIPLA); https://www.aipla.org/detail/journal-issue/2019-report-of-the-economic-survey. The USPTO uses the mean rate for attorneys in private firms which is $400 per hour. The hourly rate for paraprofessional/paralegals is estimated at $145 from data published in the 2018 Utilization and Compensation Survey by the National Association of Legal Assistants (NALA).

Table 2—Total Hourly Burden for Individuals and Households Respondents
Item No. | Item | Estimated annual respondents | Estimated annual responses (year) | Estimated time for response (hours) | Estimated annual burden (hour/year) | Rate ² ($/hour) | Estimated annual burden
|  |  | (a) | (b) | (a) × (b) = c | (d) | (c) × (d) = e
1 | Information Disclosure Statements that require the fee set forth in 37 CFR 1.17(p) | 19,324 | 19,324 | 2 | 38,648 | $400 | $15,459,200
2 | Transmittal Form | 20,506 | 20,506 | 2 | 41,012 | 145 | 5,946,740
3 | Petition for Extension of Time under 37 CFR 1.136(a) | 7,800 | 7,800 | .3 (18 minutes) | 2,340 | 145 | 339,300
4 | Express Abandonment under 37 CFR 1.138 | 57 | 57 | .25 (15 minutes) | 14 | 145 | 2,030
5 | Statutory Disclaimers (including terminal disclaimers) | 1,790 | 1,790 | .25 (15 minutes) | 448 | 400 | 179,200
6 | Request for Expedited Examination of a Design Application | 32 | 32 | .25 (15 minutes) | 8 | 400 | 3,200
7 | Petition for Revival of an Application for Patent Abandoned Unintentionally | 237 | 237 | 1 | 237 | 400 | 94,800
8 | Petition for Revival of an Application for Patent Abandoned for Failure to Notify the Office of a Foreign or International Filing | 4 | 4 | 1 | 4 | 400 | 1,600
9 | Requests to Access, Inspect and Copy | 25,500 | 25,500 | .25 (15 minutes) | 6,375 | 145 | 924,375
10 | Deposit Account Order Form | 1,994 | 1,994 | .25 (15 minutes) | 499 | 145 | 72,355
11 | Certificates of Mailing or Transmission | 18,000 | 18,000 | .03 (2 minutes) | 540 | 145 | 78,300
12 | Statement Under 37 CFR 3.73(c) | 5,334 | 5,334 | .25 (15 minutes) | 1,334 | 400 | 533,600
13 | Non-publication Request | 660 | 660 | .25 (15 minutes) | 165 | 400 | 66,000
14 | Rescission of Previous Non-publication Request (35 U.S.C. § 122(b)(2)(B)(ii) and, if applicable, Notice of Foreign Filing (35 U.S.C. § 122(b)(2)(B)(iii) | 66 | 66 | .25 (15 minutes) | 17 | 400 | 6,800
18 | Request for Continued Examination (RCE) Transmittal | 4,787 | 4,787 | .3 (18 minutes) | 1,436 | 400 | 574,400
19 | Request for Suspension of Action or Deferral of Examination Under 37 CFR 1.103(b), (c), or (d) | 26 | 26 | .2 (12 minutes) | 5 | 400 | 2,000
20 | Request for Voluntary Publication or Republication (includes publication fee for republication) | 4 | 4 | .2 (12 minutes) | 1 | 145 | 145
21 | Applicant Initiated Interview Request Form | 945 | 945 | .4 (24 minutes) | 378 | 400 | 151,200
22 | Processing Fee Under 37 CFR 1.17(i) Transmittal | 4 | 4 | .08 (5 minutes) | 1 | 400 | 400
23 | Request to Retrieve Electronic Priority Application (s) Under 37 CFR 1.55(h) | 181 | 181 | .25 (15 minutes) | 45 | 400 | 18,000
24 | Authorization or Rescission of Authorization to Permit Access to Application-as-filed by Participating Offices Under 37 CFR 1.14(h) | 240 | 240 | .25 (15 minutes) | 60 | 400 | 24,000
25 | Petition for Express Abandonment to Obtain a Refund | 56 | 56 | .2 (12 minutes) | 11 | 400 | 4,400
26 | Pre-Appeal Brief Request for Review | 240 | 240 | 5 | 1,200 | 400 | 480,000
27 | Request for Corrected Filing Receipt | 1,302 | 1,302 | .08 (5 minutes) | 104 | 145 | 15,080
28 | Request for First Action Interview (Pilot Program) (Electronic only) | 63 | 63 | 2.5 | 158 | 400 | 63,200
29 | Petition to Make Special Based on Age for Advancement of Examination under 37 CFR 1.102(c)(1) (EFS-Web only) | 45 | 45 | 2 | 90 | 400 | 36,000
30 | Filing a submission after final rejection (see 37 CFR 1.129(a)) | 3 | 3 | 8 | 24 | 400 | 9,600
31 | Correction of inventorship after first office action on the merits | 90 | 90 | .75 (45 minutes) | 68 | 400 | 27,200
32 | Request for correction in a patent application relating to inventorship or an inventor name, or order of names, other than in a reissue application (37 CFR 1.48) | 440 | 440 | .75 (45 minutes) | 330 | 400 | 132,000
33 | Request to correct or update the name of the applicant under 37 CFR 1.46(c)(1), or change the applicant under 37 CFR 1.46(c)(2) | 353 | 353 | .2 (12 minutes) | 71 | 400 | 28,400
Total |  | 110,083 | 110,083 |  | 95,623 |  | 25,273,525
² 2019 Report of the Economic Survey, published by the Committee on Economics of Legal Practice of the American Intellectual Property Law Association (AIPLA); https://www.aipla.org/detail/journal-issue/2019-report-of-the-economic-survey. The USPTO uses the mean rate for attorneys in private firms which is $400 per hour. The hourly rate for paraprofessional/paralegals is estimated at $145 from data published in the 2018 Utilization and Compensation Survey by the National Association of Legal Assistants (NALA).

Estimated Total Annual Non-Hour Respondent Cost Burden: $408,845,999.

There are no recordkeeping, maintenance, or capital start-up costs associated with this information collection. However, this information collection has annual non-hour costs in the form of filing fees, as estimated in Table 3, and postage costs. The public may submit the paper forms and petitions in this information collection to the USPTO by mail through the United States Postal Service. If the submission is sent by first-class mail, the public may also include a signed certification of the date of mailing in order to receive credit for timely filing. The USPTO estimates that approximately 166,111 submissions per year may be mailed. The USPTO estimates that the average submission will be mailed in a legal flat-rate Priority Mail envelope at a cost of $8.05; resulting in a total postage cost of $1,377,194.

Table 3—Filing Fees
Item No. | Item | Estimated annual responses | Estimated cost | Estimated non-hour cost burden
|  | (a) | (b) | (a) × (b)
1 | Information Disclosure Statements (IDS) that require the fee set forth in 37 CFR 1.17(p) (large entity) | $108,938 | $260 | $28,323,880
1 | IDS that require the fee set forth in 37 CFR 1.17(p) (small entity) | 27,198 | 130 | 3,535,740
1 | IDS that require the fee set forth in 37 CFR 1.17(p) (micro entity) | 770 | 65 | 50,050
3 | One-month Extension of Time under 37 CFR 1.136(a) (large entity) | 84,428 | 220 | 18,574,160
3 | One-month Extension of Time under 37 CFR 1.136(a) (small entity) | 34,564 | 110 | 3,802,040
3 | One-month Extension of Time under 37 CFR 1.136(a) (micro entity) | 4,035 | 55 | 221,925
3 | Two-month Extension of Time under 37 CFR 1.136(a) (large entity) | 36,165 | 640 | 23,145,600
3 | Two-month Extension of Time under 37 CFR 1.136(a) (small entity) | 19,728 | 320 | 6,312,960
3 | Two-month Extension of Time under 37 CFR 1.136(a) (micro entity) | 2,346 | 160 | 375,360
3 | Three-month Extension of Time under 37 CFR 1.136(a) (large entity) | 30,668 | 1480 | 45,388,640
3 | Three-month Extension of Time under 37 CFR 1.136(a) (small entity) | 30,442 | 740 | 22,527,080
3 | Three-month Extension of Time under 37 CFR 1.136(a) (micro entity) | 3,227 | 370 | 1,193,990
3 | Four-month Extension of Time under 37 CFR 1.136(a) (large entity) | 1,860 | 2320 | 4,315,200
3 | Four-month Extension of Time under 37 CFR 1.136(a) (small entity) | 2,366 | 1160 | 2,744,560
3 | Four-month Extension of Time under 37 CFR 1.136(a) (micro entity) | 294 | 580 | 170,520
3 | Five-month Extension of Time under 37 CFR 1.136(a) (large entity) | 2,038 | 3160 | 6,440,080
3 | Five-month Extension of Time under 37 CFR 1.136(a) (small entity) | 2,257 | 1580 | 3,566,060
3 | Five-month Extension of Time under 37 CFR 1.136(a) (micro entity) | 182 | 790 | 143,780
5 | Statutory Disclaimer (including terminal disclaimer) (large entity) | 44,625 | 170 | 7,586,250
5 | Statutory Disclaimer (including terminal disclaimer) (small entity) | 14,365 | 170 | 2,442,050
5 | Statutory Disclaimer (including terminal disclaimer) (micro entity) | 691 | 170 | 117,470
6 | Request for Expedited Examination of a Design Application (large entity) | 381 | 1600 | 609,600
6 | Request for Expedited Examination of a Design Application (small entity) | 468 | 800 | 374,400
6 | Request for Expedited Examination of a Design Application (micro entity) | 218 | 400 | 87,200
8 | Petition for Revival of an Application for Patent Abandoned Unintentionally (large entity) | 3,006 | 2100 | 6,312,600
8 | Petition for Revival of an Application for Patent Abandoned Unintentionally (small entity) | 3,730 | 1050 | 3,916,500
8 | Petition for Revival of an Application for Patent Abandoned Unintentionally (micro entity) | 1,167 | 525 | 612,675
9 | Petition for revival of an application for patent abandoned for failure to notify the office of a foreign or international filing (large entity) | 108 | 2100 | 226,800
9 | Petition for revival of an application for patent abandoned for failure to notify the office of a foreign or international filing (small entity) | 22 | 1050 | 23,100
9 | Petition for revival of an application for patent abandoned for failure to notify the office of a foreign or international filing (micro entity) | 14 | 525 | 7,350
17 | Copy of File Content Showing Redactions | 1 | 140 | 140
19 | Request for Continued Examination (RCE) Transmittal (First Request) (large entity) | 74,458 | 1360 | 101,262,880
19 | Request for Continued Examination (RCE) Transmittal (First Request) (small entity) | 26,592 | 680 | 18,082,560
19 | Request for Continued Examination (RCE) Transmittal (First Request) (micro entity) | 5,318 | 340 | 1,808,120
19 | Request for Continued Examination (RCE) Transmittal (Second and Subsequent Requests) (large entity) | 37,076 | 2000 | 74,152,000
19 | Request for Continued Examination (RCE) Transmittal (Second and Subsequent Requests) (small entity) | 13,241 | 1000 | 13,241,000
19 | Request for Continued Examination (RCE) Transmittal (Second and Subsequent Requests) (micro entity) | 2,648 | 500 | 1,324,000
21 | Request for Suspension of Action or Deferral of Examination Under 37 CFR 1.103(b), (c), or (d) (large entity) | 601 | 220 | 132,220
21 | Request for Suspension of Action or Deferral of Examination Under 37 CFR 1.103(b), (c), or (d) (small entity) | 215 | 110 | 23,650
21 | Request for Suspension of Action or Deferral of Examination Under 37 CFR 1.103(b), (c), or (d) (micro entity) | 42 | 55 | 2,310
22 | Request for Voluntary Publication or Republication (includes publication fee for republication) | 138 | 140 | 19,320
24 | Processing Fee Under 37 CFR 1.17(i) Transmittal | 123 | 140 | 17,220
32 | Filing a submission after final rejection (see 37 CFR 1.129(a)) (large entity) | 46 | 880 | 40,480
32 | Filing a submission after final rejection (see 37 CFR 1.129(a)) (small entity) | 44 | 440 | 19,360
32 | Filing a submission after final rejection (see 37 CFR 1.129(a)) (micro entity) | 5 | 220 | 1,100
33 | Correction of inventorship after first office action on the merits (large entity) | 1156 | 640 | 739,840
33 | Correction of inventorship after first office action on the merits (small entity) | 793 | 320 | 253,760
33 | Correction of inventorship after first office action on the merits (micro entity) | 62 | 160 | 9,920
34 | Request for correction in a patent application relating to inventorship or an inventor name, or order of names, other than in a reissue application (37 CFR 1.48) (large entity) | 10,259 | 260 | 2,667,340
34 | Request for correction in a patent application relating to inventorship or an inventor name, or order of names, other than in a reissue application (37 CFR 1.48) (small entity) | 3,664 | 130 | 476,320
34 | Request for correction in a patent application relating to inventorship or an inventor name, or order of names, other than in a reissue application (37 CFR 1.48) (micro entity) | 733 | 65 | 47,645
Total |  |  |  | 407,468,805

Respondent's Obligation: Required to obtain or retain benefits.

IV. Request for Comments

The USPTO is soliciting public comments to:

(a) Evaluate whether the proposed collection of information is necessary for the proper performance of the functions of the Agency, including whether the information will have practical utility;

(b) Evaluate the accuracy of the Agency's estimate of the burden of the proposed collection of information, including the validity of the methodology and assumptions used;

(c) Enhance the quality, utility, and clarity of the information to be collected; and

(d) Minimize the burden of the collection of information on those who are to respond, including through the use of appropriate automated, electronic, mechanical, or other technological collection techniques or other forms of information technology, e.g., permitting electronic submission of responses.

All comments submitted in response to this notice are a matter of public record. USPTO will include or summarize each comment in the request to OMB to approve this information collection. Before including an address, phone number, email address, or other personal identifying information in a comment, be aware that the entire comment— including personal identifying information—may be made publicly available at any time. While you may ask in your comment to withhold personal identifying information from public view, USPTO cannot guarantee that it will be able to do so.

Kimberly Hardy,
Information Collections Officer, Office of the Chief Administrative Officer, United States Patent and Trademark Office.

[FR Doc. 2020-21517 Filed 9-28-20; 8:45 am]

BILLING CODE 3510-16-P